SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: March 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E:

1. TableTrust Brands LLC—Freebird East, GF Certificate No. GF-202103157, Bethel Township, Lebanon County, Pa., Wells 2 and 6 and consumptive use; Issue Date: March 3, 2021.

2. Empire Kosher Poultry, Inc., GF Certificate No. GF-202103158, Walker Township, Juniata County, Pa., consumptive use; Issue Date: March 12, 2021.

3. Town of Vestal—Public Water Supply System, GF Certificate No. GF-202103159, Town of Vestal, Broome County, N.Y., Wells 1-3, 4-2, 4-3, and 5-1; Issue Date: March 18, 2021.

4. Canton Borough Authority—Public Water Supply System, GF Certificate No. GF-202103160, Canton Borough, Bradford County, Pa., Wells 1 and 2; Issue Date: March 18, 2021.

5. Montoursville Borough—Public Water Supply System, GF Certificate No. GF-202103161, Montoursville Borough and Armstrong Township, Lycoming County, Pa., Wells 2, 3, 4, 5 and Sylvan Dell Spring; Issue Date: March 18, 2021.

Dated: April 9, 2021.
Jason E. Oyler,
General Counsel and Secretary to the Commission.

[FR Doc. 2021-07656 Filed 4-13-21; 8:45 am]

BILLING CODE 7040-01-P